DEPARTMENT OF COMMERCE

International Trade Administration

[A-570-001]

Potassium Permanganate From the People's Republic of China: Preliminary Results of Antidumping Duty Administrative Review; 2013

AGENCY: Enforcement and Compliance, International Trade Administration, Department of Commerce.

SUMMARY: In response to a request by Pacific Accelerator Limited (“PAL”), the Department of Commerce (“Department”) is conducting an administrative review of the antidumping duty (“AD”) order on potassium permanganate from the People's Republic of China (“PRC”) for the period of review (“POR”) January 1, 2013, through December 31, 2013. The Department has preliminarily determined that PAL had no reviewable entries of subject merchandise during the POR.

DATES: Effective Date: February 10, 2015.

FOR FURTHER INFORMATION CONTACT: Alexander Montoro, AD/CVD Operations, Office V, Enforcement and Compliance, International Trade Administration, Department of Commerce, 14th Street and Constitution Avenue NW., Washington, DC 20230; telephone: (202) 482-0238.

SUPPLEMENTARY INFORMATION:

Scope of the Order

Imports covered by the order are shipments of potassium permanganate, an inorganic chemical produced in free-flowing, technical, and pharmaceutical grades. Potassium permanganate is currently classifiable under item 2841.61.00 of the Harmonized Tariff Schedule of the United States (HTSUS). Although the HTSUS item number is provided for convenience and customs purposes, the written description of the merchandise remains dispositive.

Background

On February 28, 2014, based on a timely request for review by PAL ¹, the Department initiated an administrative review of the antidumping order on potassium permanganate from the PRC.² On March 20, 2014, the Department issued Section A, C, and D questionnaires to PAL.³ On April 24, May 16, and May 23, 2014, we received Section A, C and D questionnaire responses from PAL, respectively. On July 10, 2014, the Department issued a supplemental questionnaire asking PAL to confirm whether it had any entries of subject merchandise during the POR.⁴ On September 5, 2014, we extended the preliminary results to December 3, 2014.⁵ On November 18, 2014, we fully extended the preliminary results to February 2, 2015.⁶

¹ See letter from Pacific Accelerator Limited entitled, “Request for Administrative Review of the Antidumping Duty Order on Potassium Permanganate from the People's Republic of China,” dated January 30, 2014.

² See Initiation of Antidumping and Countervailing Duty Administrative Reviews and Request for Revocation in Part, 79 FR 11401 (February 28, 2014).

³ See the Department's letter to Pacific Accelerator Limited entitled, “Antidumping Duty Administrative Review of Potassium Permanganate from the People's Republic of China: Questionnaire,” dated March 20, 2014 (“Questionnaire”).

⁴ See the Department's letter to Pacific Accelerator Limited entitled, “Antidumping Duty Administrative Review of Potassium Permanganate from the People's Republic of China: Supplemental Section C Questionnaire,” dated July 10, 2014 (“Section C Supplemental”).

⁵ See Memorandum to Christian Marsh, Deputy Assistant Secretary, through James Doyle, Office Director, from Alexander Montoro, International Trade Compliance Analyst, “Potassium Permanganate from the People's Republic of China; Extension of Deadline for Preliminary Results of the 2013 Antidumping Duty Administrative Review,” dated September 5, 2014.

⁶ See Memorandum to Christian Marsh, Deputy Assistant Secretary, through James Doyle, Office Director, from Alexander Montoro, International Trade Compliance Analyst, “Potassium Permanganate from the People's Republic of China; Second Extension of Deadline for Preliminary Results of the 2013 Antidumping Duty Administrative Review,” dated November 18, 2014.

Preliminary Determination of No Reviewable Entries

PAL's Section C response indicated that PAL made only one sale on the last day of POR, which entered the United States five months after the end of the review period. On July 17, 2014, in response to the Department's Section C Supplemental, PAL reported having no entries during the POR, but stated that the review should proceed because it made a sale during the POR.⁷ Carus Corporation (“Petitioner”) submitted comments on July 24, 2014, in response to PAL's supplemental, and stated that the review should be rescinded since there are no reviewable entries during the POR.⁸ On July, 28, 2014, PAL submitted comments in response to Petitioner's July 24, 2014, submission.⁹ Petitioner submitted additional comments in response to PAL on July 31, 2014.¹⁰ PAL submitted a final set of comments on August 6, 2014.¹¹

⁷ See PAL's July 17, 2014, submission at 11.

⁸ See Petitioner's July 24, 2014, submission at 1.

⁹ See PAL's July 28, 2014, submission.

¹⁰ See Petitioner's July 31, 2014, submission.

¹¹ See PAL's August 6, 2014, submission.

On August 5, 2014, we asked U.S. Customs and Border Protection (“CBP”) to conduct a query on potential shipments of subject merchandise made by PAL during the POR, in accordance with our practice. On August 13, 2014, we received the requested CBP data query information, which confirmed that PAL had no entries of the subject merchandise during the POR.¹²

¹² See Memorandum to the File, from Alexander Montoro, International Trade Compliance Analyst entitled, “CBP Data Query Results,” dated concurrently with this notice.

After reviewing PAL's submission and the CBP data, which confirms that PAL had no entries during the POR, we preliminarily determine that PAL did not have any reviewable entries during the POR. The Department finds that consistent with its practice in non-market economy antidumping duty cases, it is appropriate not to rescind the review in part in this circumstance but, rather, to complete the review with respect to the above named companies and issue appropriate instructions to CBP based on the final results of the review.¹³

¹³ See Non-Market Economy Antidumping Proceedings: Assessment of Antidumping Duties, 76 FR 65694 (October 24, 2011) (“NME Reseller Policy”).

Methodology

The Department conducted this review in accordance with section 751(a)(1)(B) of the Tariff Act of 1930, as amended (“the Act”). For a full description of the methodology underlying our conclusions, see the Preliminary Decision Memorandum.¹⁴ A list of the topics discussed in the Preliminary Decision Memorandum is attached to this notice in Appendix I. The Preliminary Decision Memorandum is a public document and is on file electronically via Enforcement and Compliance's Antidumping and Countervailing Duty Centralized Electronic Service System (“ACCESS”).¹⁵ ACCESS is available to registered users at http://iaaccess.trade.gov, and is available to all parties in the Central Records Unit, Room 7046 of the main Department of Commerce building. In addition, a complete version of the Preliminary Decision Memorandum can be accessed directly on the internet at http://enforcement.trade.gov/frn/index.html. The signed Preliminary Decision Memorandum and the electronic versions of the Preliminary Decision Memorandum are identical in content.

¹⁴ See Memorandum to Paul Piquado, Assistant Secretary for Enforcement and Compliance, from Christian Marsh, Deputy Assistant Secretary for Antidumping and Countervailing Duty Operations, entitled “Decision Memorandum for Preliminary Results of Antidumping Duty Administrative Review: Potassium Permanganate from the People's Republic of China,” dated concurrently with this notice (“Preliminary Decision Memorandum”).

¹⁵ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Preliminary Results of Review

The Department preliminarily determines that the following weighted-average dumping margins exist for the period January 1, 2013, through December 31, 2013:

Exporter | Weighted average dumping margin
Pacific Accelerator Limited | (*)
* No reviewable entries in this review. The firm does not have an individual rate or a separate rate and has never been reviewed in any other prior segment. Thus, the firm is considered part of the PRC-wide entity, which does have a rate from a prior segment of the proceeding.

Public Comment and Opportunity to Request a Hearing

Interested parties may submit case briefs within 30 days after the date of publication of these preliminary results of review.¹⁶ Rebuttals to case briefs, which must be limited to issues raised in the case briefs, must be filed within five days after the time limit for filing case briefs.¹⁷ Parties who submit arguments are requested to submit with the argument (a) a statement of the issue, (b) a brief summary of the argument, and (c) a table of authorities.¹⁸ Parties submitting briefs should do so pursuant to the Department's electronic filing requirements.

¹⁶ See 19 CFR 351.309(c)(1)(ii).

¹⁷ See 19 CFR 351.309(d)(1)-(2).

¹⁸ See 19 CFR 351.309(c)(2) and (d)(2).

Any interested party may request a hearing within 30 days of publication of this notice.¹⁹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.²⁰

¹⁹ See 19 CFR 351.310(c).

²⁰ See 19 CFR 351.310(d).

The Department intends to issue the final results of this administrative review, which will include the results of our analysis of all issues raised in the case briefs, within 120 days of publication of these preliminary results in the Federal Register, unless extended, pursuant to section 751(a)(3)(A) of the Act.

Assessment Rates

Upon issuance of the final results, the Department will determine, and CBP shall assess, antidumping duties on all appropriate entries covered by this review.²¹ The Department intends to issue assessment instructions to CBP 15 days after the publication date of the final results of this review. For any individually examined respondent whose weighted average dumping margin is above de minimis (i.e., 0.50 percent) in the final results of this review, the Department will calculate importer-specific assessment rates on the basis of the ratio of the total amount of dumping calculated for the importer's examined sales and the total entered value of sales, in accordance with 19 CFR 351.212(b)(1). We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

²¹ See 19 CFR 351.212(b).

The Department recently announced a refinement to its assessment practice in NME cases. Pursuant to this refinement in practice, for entries that were not reported in the U.S. sales data submitted by companies individually examined during the administrative review, the Department will instruct CBP to liquidate such entries at the rate for the PRC-wide entity. Additionally, if the Department determines that an exporter had no shipments of the subject merchandise, any suspended entries that entered under that exporter's case number (i.e., at that exporter's cash deposit rate) will be liquidated at the rate for the PRC-wide entity.²²

²² For a full discussion of this practice, see NME Reseller Policy.

The final results of this review shall be the basis for the assessment of antidumping duties on entries of merchandise covered by the final results of this review and for future cash deposits of estimated duties, where applicable.

Cash Deposit Requirements

The following cash deposit requirements will be effective upon publication of the final results of this review for shipments of the subject merchandise from the PRC entered, or withdrawn from warehouse, for consumption on or after the publication date, as provided by sections 751(a)(2)(C) of the Act: (1) For previously investigated or reviewed PRC and non-PRC exporters that received a separate rate in a prior completed segment of this proceeding, the cash deposit rate will continue to be the existing exporter-specific rate; (2) for all PRC exporters of subject merchandise that have not been found to be entitled to a separate rate, the cash deposit rate will be that for the PRC-wide entity, which is 128.94 percent; ²³ and (3) for all non-PRC exporters of subject merchandise which have not received their own rate, the cash deposit rate will be the rate applicable to the PRC exporter that supplied that non-PRC exporter.

²³ See Potassium Permanganate From the People's Republic of China; Final Results of Antidumping Duty Administrative Review, 59 FR 26625 (May 23, 1994).

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

Notification to Interested Parties

These preliminary results are issued and published in accordance with sections 751(a)(1) and 777(i)(1) of the Act and 19 CFR 351.221(b)(4).

Dated: February 2, 2015.
Paul Piquado,
Assistant Secretary for Enforcement and Compliance.

Appendix I

List of Topics Discussed in the Preliminary Decision Memorandum:

1. Summary

2. Background

3. Scope of the Order

4. Preliminary Finding of No Reviewable Entries

5. Recommendation

[FR Doc. 2015-02724 Filed 2-9-15; 8:45 am]

BILLING CODE 3510-DS-P